DEPARTMENT OF COMMERCE

International Trade Administration

[A-570-928]

Uncovered Innerspring Units From the People's Republic of China: Extension of Preliminary Results of Antidumping Duty New Shipper Review

AGENCY: Import Administration, International Trade Administration, Department of Commerce.

SUMMARY: The Department of Commerce (the “Department”) is extending the time limit for the preliminary results of the new shipper review of uncovered innerspring units (“innersprings”) from the People's Republic of China (“PRC”). The period of review for this review is February 1, 2010-July 31, 2010.

DATES: Effective Date: March 28, 2011.

FOR FURTHER INFORMATION CONTACT: Paul Walker, AD/CVD Operations, Office 9, Import Administration, International Trade Administration, U.S. Department of Commerce, 14th Street and Constitution Avenue, NW., Washington, DC 20230; telephone: (202) 482-0413.

Background

On October 7, 2010 the Department published a notice of initiation of the new shipper review in the antidumping duty order on innersprings from the PRC for Foshan Nanhai Jiujiang Quan Li Spring Hardware Factory (“Quan Li”) and Foshan Yongnuo Import & Export Co., Ltd. (“Yongnuo”). See Uncovered Innerspring Units From the People's Republic of China: Initiation of Antidumping Duty New Shipper Review, 75 FR 62107 (October 7, 2010). The preliminary results of this review are currently due no later than March 28, 2011.

Statutory Time Limits

Section 751(a)(2)(B)(iv) of the Tariff Act of 1930, as amended (the “Act”), and 19 CFR 351.214(i)(1) require the Department to issue the preliminary results of a new shipper review within 180 days after the date on which the new shipper review was initiated and final results within 90 days after the date on which the preliminary results are issued. However, the Department may extend the deadline for completion of the preliminary results of a new shipper review to 300 days if it determines that the case is extraordinarily complicated. See section 751(a)(2)(B)(iv) of the Act; see also 19 CFR 351.214(i)(2)

Extension of Time Limit for Preliminary Results of Review

The Department has determined that the review is extraordinarily complicated as the Department must issue, and analyze the responses to, additional supplemental questionnaires concerning Quan Li's and Yongnuo's sales practices and factors of production. Moreover, the Department needs additional time to analyze the bona fide nature of Quan Li's and Yongnuo's sales, which includes gathering data from U.S. Customs and Border Protection. Based on the timing of the case and the additional information that must be gathered, the preliminary results of this new shipper review cannot be completed within 180 days.

Therefore, the Department is extending the time limit for completion of the preliminary results of this new shipper review by 65 days from the original March 28, 2011, deadline. As a result, the preliminary results will now be due no later than June 1, 2011. The final results continue to be due 90 days after the issuance of the preliminary results.

We are issuing and publishing this notice in accordance with sections 751(a)(2)(B)(iv) and 777(i) of the Act.

Dated: March 17, 2011.
Christian Marsh,
Deputy Assistant Secretary for Antidumping and Countervailing Duty Operations.

[FR Doc. 2011-7227 Filed 3-25-11; 8:45 am]

BILLING CODE 3510-DS-P